DEPARTMENT OF COMMERCE

International Trade Administration

[A-570-875]

Continuation of Antidumping Duty Order on Non-Malleable Cast Iron Pipe Fittings from the People's Republic of China

AGENCY: Import Administration, International Trade Administration, Department of Commerce.

SUMMARY: As a result of the determinations by the Department of Commerce (“Department”) and the International Trade Commission (“ITC”) that revocation of the antidumping duty order on non-malleable cast iron pipe fittings (“non-malleable pipe fittings”) from the People's Republic of China (“PRC”) would likely lead to a continuation or recurrence of dumping and material injury to an industry in the United States, the Department is publishing a notice of continuation for the antidumping duty order.

EFFECTIVE DATE: August 15, 2008.

FOR FURTHER INFORMATION CONTACT: Zev Primor or Juanita Chen, AD/CVD Operations, Import Administration, International Trade Administration, U.S. Department of Commerce, 14th Street & Constitution Avenue, NW, Washington, DC 20230; telephone: (202) 482-4114 or (202) 482-1904, respectively.

SUPPLEMENTARY INFORMATION:

Background:

On March 3, 2008, the Department initiated and the ITC instituted sunset reviews of the antidumping duty order on non-malleable pipe fittings from the PRC pursuant to section 751(c) of the Tariff Act of 1930, as amended (the “Act”). See Initiation of Five-year (“Sunset”) Reviews, 73 FR 11392 (March 3, 2008).

As a result of its review, the Department determined that revocation of the antidumping duty order on non-malleable pipe fittings from the PRC would likely to lead to a continuation or recurrence of dumping and, therefore, notified the ITC of the magnitude of the margins likely to prevail should the order be revoked. See Non-Malleable Cast Iron Pipe Fittings from the People's Republic of China; Final Results of the Expedited Sunset Review of the Antidumping Duty Order, 73 FR 39656 (July 10, 2008).

On July 16, 2008, the ITC determined, pursuant to section 751(c) of the Act, that revocation of the antidumping duty order on non-malleable pipe fittings from the PRC would likely lead to a continuation or recurrence of material injury to an industry in the United States within a reasonably foreseeable future. See Non-Malleable Cast Iron Pipe Fittings from the People's Republic of China (Inv. No. 731-TA-990 (Review)), USITC Publication 4023 (July 2008) and 73 FR 45075 (August 1, 2008).

Scope of the Order

For purposes of this review, the products covered are finished and unfinished non-malleable cast iron pipe fittings with an inside diameter ranging from 1/4 inch to 6 inches, whether threaded or un-threaded, regardless of industry or proprietary specifications. The subject fittings include elbows, ells, tees, crosses, and reducers as well as flanged fittings. These pipe fittings are also known as “cast iron pipe fittings” or “gray iron pipe fittings.” These cast iron pipe fittings are normally produced to ASTM A-126 and ASME B.l6.4 specifications and are threaded to ASME B1.20.1 specifications. Most building codes require that these products are Underwriters Laboratories (“UL”) certified. The scope does not include cast iron soil pipe fittings or grooved fittings or grooved couplings.

Fittings that are made out of ductile iron that have the same physical characteristics as the gray or cast iron fittings subject to the scope above or which have the same physical characteristics and are produced to ASME B.16.3, ASME B.16.4, or ASTM A-395 specifications, threaded to ASME B1.20.1 specifications and UL certified, regardless of metallurgical differences between gray and ductile iron, are also included in the scope of this petition. These ductile fittings do not include grooved fittings or grooved couplings. Ductile cast iron fittings with mechanical joint ends, or push on ends, or flanged ends and produced to the American Water Works Association (“AWWA”) specifications AWWA C110 or AWWA C153 are not included.

Imports of covered merchandise are currently classifiable in the Harmonized Tariff Schedule of the United States (“HTSUS”) under item numbers 7307.11.00.30, 7307.11.00.60, 7307.19.30.60 and 7307.19.30.85. HTSUS subheadings are provided for convenience and customs purposes. The written description of the scope of this proceeding is dispositive.

Since the order was published, there was one scope determination for non-malleable pipe fittings from the PRC, dated November 5, 2004. In the determination, requested by Thomas and Betts Corporation, the Department ruled that certain electrical conduit fittings are within the scope of the antidumping order. See Notice of Scope Rulings, 70 FR 24533, 24534 (May 10, 2005).

Continuation of the Order

As a result of these determinations by the Department and the ITC that revocation of the antidumping duty order would likely lead to a continuation or recurrence of dumping and material injury to an industry in the United States, pursuant to section 751(d)(2) of the Act, the Department hereby orders the continuation of the antidumping order on non-malleable pipe fittings from the PRC. United States Customs and Border Protection will continue to collect antidumping duty cash deposits at the rates in effect at the time of entry for all imports of subject merchandise.

The effective date of the continuation of the order will be the date of publication in the Federal Register of this notice of continuation. Pursuant to section 751(c)(2) of the Act, the Department intends to initiate the next five-year review of the order not later than 30 days prior to the fifth anniversary of the effective date of continuation.

This five-year (sunset) review and this notice are in accordance with section 751(c) of the Act and published pursuant to section 777(i)(1) of the Act.

Dated: August 8, 2008.
David M. Spooner,
Assistant Secretary for Import Administration.

[FR Doc. E8-18941 Filed 8-14-08; 8:45 am]

BILLING CODE 3510-DS-S